SUSQUEHANNA RIVER BASIN COMMISSION

Public Hearing

AGENCY: Susquehanna River Basin Commission.

ACTION: Notice.

SUMMARY: The Susquehanna River Basin Commission will hold a public hearing on August 3, 2017, in Harrisburg, Pennsylvania. At this public hearing, the Commission will hear testimony on the projects listed in the Supplementary Information section of this notice. The Commission will also hear testimony on a request for waiver by Middletown Borough, as well as a proposed guidance for alternatives analysis. Such projects, request and proposal are intended to be scheduled for Commission action at its next business meeting, tentatively scheduled for September 7, 2017, which will be noticed separately. The public should take note that this public hearing will be the only opportunity to offer oral comment to the Commission for the listed projects, request and proposal. The deadline for the submission of written comments is August 14, 2017.

DATES: The public hearing will convene on August 3, 2017, at 2:30 p.m. The public hearing will end at 5:00 p.m. or at the conclusion of public testimony, whichever is sooner. The deadline for the submission of written comments is August 14, 2017.

ADDRESSES: The public hearing will be conducted at the Pennsylvania State Capitol, Room 8E-B, East Wing, Commonwealth Avenue, Harrisburg, Pa.

FOR FURTHER INFORMATION CONTACT: Jason Oyler, General Counsel, telephone: (717) 238-0423, ext. 1312; fax: (717) 238-2436.

Information concerning the applications for these projects is available at the SRBC Water Application and Approval Viewer at http://mdw.srbc.net/waav. Additional supporting documents are available to inspect and copy in accordance with the Commission's Access to Records Policy at www.srbc.net/pubinfo/docs/2009-02_Access_to_Records_Policy_20140115.pdf.

SUPPLEMENTARY INFORMATION: The public hearing will cover a request for waiver of 18 CFR 806.6(a)(5) and (b) by Middletown Borough, tabled at the Commission's business meeting held June 16, 2017, as well as a proposed guidance for alternatives analysis, as posted on the SRBC Public Participation Center Web page at www.srbc.net/pubinfo/publicparticipation.htm. The public hearing will also cover the following projects:

Projects Scheduled for Action

1. Project Sponsor and Facility: Cabot Oil & Gas Corporation (Meshoppen Creek), Springville Township, Susquehanna County, Pa. Application for renewal with modification of surface water withdrawal of up to 0.750 mgd (peak day) (Docket No. 20130904).

2. Project Sponsor and Facility: Chesapeake Appalachia, L.L.C. (Chemung River), Athens Township, Bradford County, Pa. Application for renewal of surface water withdrawal of up to 0.999 mgd (peak day) (Docket No. 20130905).

3. Project Sponsor and Facility: Chesapeake Appalachia, L.L.C. (Sugar Creek), Burlington Township, Bradford County, Pa. Application for renewal of surface water withdrawal of up to 0.499 mgd (peak day) (Docket No. 20130906).

4. Project Sponsor and Facility: Chesapeake Appalachia, L.L.C. (Susquehanna River), Terry Township, Bradford County, Pa. Application for renewal of surface water withdrawal of up to 1.440 mgd (peak day) (Docket No. 20130907).

5. Project Sponsor and Facility: Chief Oil & Gas LLC (Towanda Creek), Leroy Township, Bradford County, Pa. Application for surface water withdrawal of up to 1.500 mgd (peak day).

6. Project Sponsor and Facility: Downs Racing, L.P. d/b/a Mohegan Sun Pocono, Plains Township, Luzerne County, Pa. Application for consumptive use of up to 0.350 mgd (peak day).

7. Project Sponsor and Facility: Elizabethtown Area Water Authority, Mount Joy Township, Lancaster County, Pa. Application for renewal of groundwater withdrawal of up to 0.432 mgd (30-day average) from Well 6 (Docket No. 19861103).

8. Project Sponsor and Facility: Elizabethtown Area Water Authority, Mount Joy Township, Lancaster County, Pa. Application for groundwater withdrawal of up to 0.432 mgd (30-day average) from Well 7.

9. Project Sponsor and Facility: Elizabethtown Area Water Authority, Elizabethtown Borough and Mount Joy Township, Lancaster County, Pa. Modification to correct total system limit to remove inclusion of water discharged to the Conewago watershed to offset passby and transfer of water from Conewago Creek to Back Run (Docket No. 20160903).

10. Project Sponsor and Facility: Houtzdale Municipal Authority, Gulich Township, Clearfield County, Pa. Application for groundwater withdrawal of up to 1.008 mgd (30-day average) from Well 14R.

11. Project Sponsor and Facility: Moxie Freedom LLC, Salem Township, Luzerne County, Pa. Modification to increase consumptive use by an additional 0.408 mgd (peak day), for a total consumptive use of up to 0.500 mgd (peak day) (Docket No. 20150907).

12. Project Sponsor and Facility: Susquehanna Gas Field Services, LLC (Meshoppen Creek), Meshoppen Borough, Wyoming County, Pa. Application for renewal of surface water withdrawal of up to 0.145 mgd (peak day) (Docket No. 20130913).

13. Project Sponsor and Facility: Susquehanna Nuclear, LLC, Salem Township, Luzerne County, Pa. Modification to increase consumptive use by an additional 5.000 mgd (peak day), for a total consumptive use of up to 53.000 mgd (peak day) (Docket No. 19950301).

14. Project Sponsor and Facility: Susquehanna Nuclear, LLC (Susquehanna River), Salem Township, Luzerne County, Pa. Modification to increase surface water withdrawal by an additional 10.000 mgd (peak day), for a total surface water withdrawal increase of up to 76.000 mgd (peak day) (Docket No. 19950301).

15. Project Sponsor and Facility: SWEPI LP (Elk Run), Sullivan Township, Tioga County, Pa. Application for surface water withdrawal of up to 0.646 mgd (peak day).

16. Project Sponsor and Facility: SWN Production Company, LLC (Wyalusing Creek), Wyalusing Township, Bradford County, Pa. Application for renewal of surface water withdrawal of up to 2.000 mgd (peak day) (Docket No. 20130911).

17. Project Sponsor and Facility: Transcontinental Gas Pipe Line Company, LLC. Project: Atlantic Sunrise (Fishing Creek), Sugarloaf Township, Columbia County, Pa. Application for modification to add consumptive use of up to 0.200 mgd (peak day) to existing docket approval (Docket No. 20160913).

18. Project Sponsor and Facility: Transcontinental Gas Pipe Line Company, LLC. Project: Atlantic Sunrise (Fishing Creek), Sugarloaf Township, Columbia County, Pa. Application for modification to change authorized use of source to existing docket approval (Docket No. 20160913).

19. Project Sponsor and Facility: Village of Waverly, Tioga County, N.Y. Application for groundwater withdrawal of up to 0.320 mgd (30-day average) from Well 1.

20. Project Sponsor and Facility: Village of Waverly, Tioga County, N.Y. Application for groundwater withdrawal of up to 0.480 mgd (30-day average) from Well 2.

21. Project Sponsor and Facility: Village of Waverly, Tioga County, N.Y. Application for groundwater withdrawal of up to 0.470 mgd (30-day average) from Well 3.

Opportunity To Appear and Comment

Interested parties may appear at the hearing to offer comments to the Commission on any project, request or proposal listed above. The presiding officer reserves the right to limit oral statements in the interest of time and to otherwise control the course of the hearing. Guidelines for the public hearing will be posted on the Commission's Web site, www.srbc.net, prior to the hearing for review. The presiding officer reserves the right to modify or supplement such guidelines at the hearing. Written comments on any project, request or proposal listed above may also be mailed to Mr. Jason Oyler, General Counsel, Susquehanna River Basin Commission, 4423 North Front Street, Harrisburg, Pa. 17110-1788, or submitted electronically through www.srbc.net/pubinfo/publicparticipation.htm. Comments mailed or electronically submitted must be received by the Commission on or before August 14, 2017, to be considered.

Authority: Pub. L. 91-575, 84 Stat. 1509 et seq., 18 CFR parts 806, 807, and 808.

Dated: June 29, 2017.
Stephanie L. Richardson,
Secretary to the Commission.

[FR Doc. 2017-14076 Filed 7-3-17; 8:45 am]

BILLING CODE 7040-01-P